DEPARTMENT OF THE TREASURY

Internal Revenue Service

26 CFR Part 1

[REG-142499-01]

RIN 1545-BA24

Catch-Up Contributions for Individuals Age 50 and Over

Correction

In proposed rule document 01-26566 beginning on page 53555 in the issue of Tuesday, October 23, 2001, make the following correction:

§ 1.414 (v)-1 [Corrected]

On page 53562, in the second column, in §1.414(v)-1 (g)(1), in the fourth line, “includable” should read, “includible”.

On the same page, in the same column, in §1.414(v)-1 (g)(2), in the sixth line, “includable” should read, “includible”.

[FR Doc. C1-26566 Filed 12-13-01; 8:45 am]

BILLING CODE 1505-01-D

DEPARTMENT OF VETERANS AFFAIRS

38 CFR Part 17

RIN 2900-AK50

Copayments for Inpatient Hospital Care and Outpatient Medical Care

Correction

In rule document 01-30182 beginning on page 63446 in the issue of Thursday, December 6, 2001, make the following correction:

On page 63446, in the first column, in the ACTION: heading, in the first line, “Interim and Final Rule” should read “Interim Final Rule”.

[FR Doc. C1-30182 Filed 12-13-01; 8:45 am]

BILLING CODE 1505-01-D

GENERAL SERVICES ADMINISTRATION

Record of Decision: Programmatic Development Plan and Phase 1 Implementation for the Suitland Federal Center (SFC) in Suitland, MD

Correction

In notice document 01-29128 beginning on page 58495 in the issue of Wednesday, November 21, 2001 make the following correction:

On page 58499, the table is corrected to read as set forth below:

Impacted areas | Phase | Mitigation measure
* * * * * |  |
Transportation Systems |
| Phase 2 | • Undertake necessary roadway and signal improvements to ensure that intersections surrounding the SFC operate at acceptable LOS.
|  | • Prepare a TMP.
* * * * * |  |

[FR Doc. C1-29128 Filed 12-13-01; 8:45 am]

BILLING CODE 1505-01-D